CONSUMER PRODUCT SAFETY COMMISSION

Sunshine Act Meeting

TIME AND DATE: Tuesday, September 26, 2000, 10 a.m.

LOCATION: Room 420, East West Towers, 4330 East West Highway, Bethesda, Maryland.

STATUS: Open to the Public.

Matters to be Considered: Escalator Petition (CP 97-1)

The staff will brief the Commission on Petition CP 97-1 filed by Scott and Diana Anderson, requesting development of a mandatory safety standard for escalators.

For a recorded message containing the latest agenda information, call (301) 504-0709.

CONTACT PERSON FOR ADDITIONAL INFORMATION: Sadye E. Dunn, Office of the Secretary, 4330 East West Highway, Bethesda, MD 20207 (301) 504-0800.

Dated: September 19, 2000.
Sadye E. Dunn,
Secretary.

[FR Doc. 00-24470 Filed 9-19-00; 3:54 pm]

BILLING CODE 6355-01-M